DEPARTMENT OF HEALTH AND HUMAN SERVICES

Centers for Disease Control and Prevention

Prospective Grant of Exclusive License: Multiple-Valent Opsonophagocytic Assay Selection Panel Arrays

AGENCY: Centers for Disease Control and Prevention (CDC), Department of Health and Human Services (HHS).

ACTION: Notice.

SUMMARY: This is a notice in accordance with 35 U.S.C. 209(e) and 37 CFR 404.7(a)(1)(i) that the Technology Transfer Office, Centers for Disease Control and Prevention (CDC), Department of Health and Human Services (HHS), is thinking about giving a worldwide, exclusive license to practice the inventions listed in the patent referred to below to Flow Applications, Inc., having a place of business in Okawville, Illinois. The patent rights in these inventions have been assigned to the government of the United States of America. The patent to be licensed is:

US Patent 7,642,068, entitled, “Multiple-Valent Opsonophagocytic Assay Selection Panel Arrays and Uses Therefor”, issued 1/5/2010. CDC Technology ID No. I-035-04.

Status: Patent Issued.

Priority Date: 4/22/2005.

Issue Date: 1/5/2010.

The planned exclusive license will be royalty-bearing and will comply with the terms and conditions of 35 U.S.C. 209 and 37 CFR 404.7.

Technology: This technology utilizes a specific medium for the selection of up to 90 different Streptococcus pneumoniae serotypes following a viability opsonophagocytosis assay. This medium includes different antibiotics, growth factors for pneumococcus, and a colorimetric detection agent. These specific antibiotic panels can be preserved for later use in conjunction with a panel of selected pneumococcal strains that will allow for the measurement of functional antibodies elicited by pneumococcal vaccines.

DATES: Only written comments and/or applications for a license which are received by CDC on or before December 3, 2012 will be considered.

ADDRESSES: Requests for a copy of this patent, inquiries, comments, and other materials relating to the contemplated license should be directed to Donald Prather, J.D., Ph.D., Technology Licensing and Marketing Specialist, Technology Transfer Office, Centers for Disease Control and Prevention (CDC), 4770 Buford Highway, Mailstop K-79, Atlanta, GA 30341, Telephone: (770) 488-8612; Facsimile: (770) 488-8615: Email: dwj5@cdc.gov.

SUPPLEMENTARY INFORMATION: Applications for a license filed in response to this notice will be treated as objections to giving the planned license.

Comments and objections submitted in response to this notice will not be made available for public inspection, and, to the extent permitted by law, will not be released under the Freedom of Information Act, 5 U.S.C. 552.

Dated: November 8, 2012.
J. Ronald Campbell,
Director, Division of Executive Secretariat Centers for Disease Control and Prevention.

[FR Doc. 2012-27895 Filed 11-15-12; 8:45 am]

BILLING CODE 4163-18-P